ENVIRONMENTAL PROTECTION AGENCY

40 CFR Part 721

[OPPTS-50639B; FRL-6771-4]

RIN 2070-AD43

Perfluorooctyl Sulfonates (PFOS); Notice of Public Meeting

AGENCY: Environmental Protection Agency (EPA).

ACTION: Proposed rule; notice of public meeting.

SUMMARY: The Environmental Protection Agency (EPA) will conduct a public meeting on the proposed significant new use rule (SNUR) on PFOS published in the Federal Register issue of October 18, 2000. At this meeting, persons who filed written comments on the proposed SNUR will have the opportunity to clarify and expand on their comments, and all interested persons will be able to identify issues of concern.

DATES: The public meeting will be held from 9 a.m. to 4 p.m. on March 27, 2001. Interested parties are requested to contact the technical person on or before Friday, March 16, 2001, to schedule presentations at the meeting.

ADDRESSES: The meeting will be held at the Sheraton Crystal City Hotel, 1800 Jefferson Davis Hwy., Arlington, VA.

FOR FURTHER INFORMATION CONTACT: For general information contact: Barbara Cunningham, Acting Director, Environmental Assistance Division, Office of Pollution Prevention and Toxics (7408), Environmental Protection Agency, 1200 Pennsylvania Ave., NW., Washington, DC 20460; telephone number: (202) 554-1404; e-mail address: TSCA-Hotline@epa.gov.

For technical information contact: Annette Washington, Chemical Control Division (7405), Office of Pollution Prevention and Toxics, 1200 Pennsylvania Ave., NW., Washington, DC 20460; telephone number: (202) 260-5315; e-mail address: washington.annette@epa.gov.

SUPPLEMENTARY INFORMATION:

I. General Information

A. Does this Action Apply to Me?

This action is directed to the public in general. This action may be of particular interest to anyone who filed written comments on the proposed SNUR for PFOS (65 FR 62319, October 18, 2000) (FRL-6745-5), or who uses products containing any of the 90 PFOS chemicals identified in the proposed SNUR. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations”, “Regulations and Proposed Rules,” and then look up the entry for this document under the “Federal Register—Environmental Documents.” You can also go directly to the Federal Register listings at http://www.epa.gov/fedrgstr/.

2. In person. The Agency has established an official record for this action under docket control number OPPTS-50639B. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

II. Meeting Procedures

For additional information on the scheduled meeting, including the meeting agenda, contact the technical person listed under FOR FURTHER INFORMATION CONTACT.

The meeting on the proposed PFOS SNUR will be open to the public. Interested parties are requested to contact the technical person on or before Friday, March 16, 2001, to schedule presentations at the meeting. Since seating for outside observers may be limited, those wishing to attend the meeting as observers are also encouraged to contact the technical person at the earliest possible date to ensure adequate seating arrangements. Inquiries regarding oral presentations and the submission of written statements or chemical specific information should be directed to the technical person. A written meeting summary, including an attendance list and copies of all presentations made at the meeting, will be included in the official record of this proceeding described in Unit I.B.2.

List of Subjects

Environmental protection, Chemicals, Hazardous materials, Recordkeeping and reporting requirements.

Dated: February 14, 2001.
Charles M. Auer,
Director, Chemical Control Division.

[FR Doc. 01-4404 Filed 2-22-01; 8:45 am]

BILLING CODE 6560-50-S